DEPARTMENT OF COMMERCE

Census Bureau

[Docket Number: 240613-0160]

X-RIN 0607-XC076

Establishment of the 2030 Census Redistricting Data Program

AGENCY: Census Bureau, Department of Commerce

ACTION: Notice of program.

SUMMARY: This notice announces and seeks comments on the establishment of the 2030 Census Redistricting Data program. Required by law, the program provides the States the opportunity to specify the geographic areas for which they wish to receive 2030 Census population totals for the purpose of reapportionment and redistricting.

DATES: Comments on this notice are due by August 8, 2024. The program is expected to begin with the solicitation of official liaisons from the states in early 2025.

ADDRESSES: Comments may be submitted by either of the following methods:

• Electronic submission: Submit electronic public comments via the Federal eRulemaking Portal.

1. Go to www.regulations.gov and enter Docket Number USBC-2024-0016 in the search field.

2. Click the “Comment Now!” icon and complete the required fields.

3. Enter or attach your comments.

• By email: Comments in electronic form may also be sent to rdo@census.gov.

All comments responding to this document will be a matter of public record. Relevant comments will generally be available on the Federal eRulemaking Portal at https://www.Regulations.gov.

The Census Bureau will not accept comments accompanied by a request that part or all of the material be treated confidentially for any reason. Therefore, do not submit confidential business information or otherwise sensitive, protected, or personal information, such as account numbers, Social Security numbers, or names of other individuals.

FOR FURTHER INFORMATION CONTACT: James Whitehorne—Chief, Redistricting and Voting Rights Data Office, c/o Census ADDC Mailbox, U.S. Census Bureau, 4600 Silver Hill Road, Washington, DC 20233 or by email to rdo@census.gov.

SUPPLEMENTARY INFORMATION: Under the provisions of title 13, section 141(c) of the United States Code (U.S.C.), the Secretary of Commerce (Secretary) is required to provide the “officers or public bodies having initial responsibility for the legislative apportionment or districting of each state” with the opportunity to specify geographic areas (e.g., census tabulation blocks, voting districts) for which they wish to receive decennial census population counts for the purpose of reapportionment or redistricting. The same statute requires the Secretary to furnish the state officials or their designees with population counts for standard census tabulation areas (e.g., state, congressional district, state legislative district, American Indian area, county, city, town, census tract, census block group, and census tabulation block) and voting districts (if provided by the state) by April 1 of the year following the decennial census. The Secretary has delegated these responsibilities to the Director of the Census Bureau (Director).

In accordance with the provisions of 13 U.S.C. 141(c), via this notice the Director announces the establishment of the 2030 Census Redistricting Data Program (RDP). In early 2025, the Census Bureau plans to invite the executive officer and the officers or public bodies having initial responsibility for legislative reapportionment and redistricting in each state to agree on and jointly identify a non-partisan liaison(s) who will work directly with the Census Bureau on the RDP. Once these liaisons are established, the Census Bureau will communicate to each state through their non-partisan liaison(s) the specific requirements of their participation.

Under 13 U.S.C. 141(c), RDP participation is voluntary. However, if states choose not to participate, the Census Bureau cannot ensure that the 2030 Census tabulation geography will support the redistricting needs of those states. The Census Bureau is proposing to structure the 2030 RDP into five phases, similar to how the program was structured for the 2020 Census.

Phase 1: Block Boundary Suggestion Project (BBSP)

In late 2025, the Census Bureau plans to formally announce the commencement of Phase 1: Block Boundary Suggestion Project (BBSP) through a Federal Register notice. The purpose of the BBSP is to afford states the opportunity to identify non-standard features often used as electoral boundaries (such as power lines, property lines, or streams) that could be used in conjunction with more traditional features (such as street centerlines) as census tabulation block boundaries. The state liaison can identify and suggest that some of these features be used as 2030 census tabulation block boundaries, resulting in more meaningful tabulation block data for the state. The liaison may work with local officials, including county election officers and others, to ensure local geography is represented in the 2030 census tabulation block inventory. In addition, the liaison may make suggestions for features not desirable as census tabulation block boundaries.

Beginning in early 2026, the Census Bureau plans to provide to states that choose to participate in Phase 1 the guidelines and training for providing their suggestions for the 2030 census tabulation block boundaries as well as their suggestions for exclusion of line segments for consideration in the final 2030 census tabulation block boundary inventory. States will also have the opportunity to review legal boundaries such as incorporated place, American Indian area, and county boundaries, in coordination with the annual Boundary and Annexation Survey (BAS) program. Incorporating the opportunity for states to review legal boundaries was successfully implemented for the first time in the 2020 RDP and proved valuable as these legal boundaries also become census tabulation block boundaries. The Census Bureau plans to process all tabulation block boundary suggestions and provide state liaisons the opportunity to verify them in early 2027.

Phase 2: Voting District Project (VTDP)

In late 2027, the Census Bureau plans to formally announce the commencement of Phase 2: Voting District Project (VTDP) through a Federal Register notice. The VTDP will provide the state liaisons the opportunity to submit and verify their voting districts (a generic term used to represent areas that administer elections such as precincts, election districts, and wards) to the Census Bureau for inclusion in the 2030 Census Redistricting Data (Pub. L. 94-171) products (tabulated data and geographic products).

Beginning in early 2028, the Census Bureau plans to begin the initial voting district update cycle, providing to states that choose to participate guidelines and training for submitting their voting district boundaries. The Census Bureau will process the updates and provide states two opportunities to verify the updates were processed correctly. The first verification cycle is planned for early 2029. The second verification cycle, planned for early 2030, will only be available to states that participated in the initial update cycle or the first verification cycle. State liaisons will also continue to have the opportunity to make census tabulation block boundary suggestions and to review legal boundaries such as incorporated place, American Indian area, and county boundaries in coordination with the annual BAS during the initial update cycle and the first verification cycle.

Phase 3: Delivery of the 2030 Census Redistricting Data

In accordance with 13 U.S.C. 141(c), the Director will furnish the Governor, state legislative leaders of both the majority and minority parties, and any other sitting “officers or public bodies having initial responsibility for the legislative apportionment or districting of each state” with 2030 Census population counts for standard census tabulation areas (e.g., state, congressional district, state legislative district, American Indian area, county, city, town, census tract, census block group, and census tabulation block) regardless of whether or not a state participates in Phases 1 or 2. The Director will also provide 2030 Census population counts for voting districts to any state that participated in Phase 2. Delivery is expected to occur prior to or alongside the public release of the 2030 Census Redistricting Data (Pub. L. 94-171) Summary File, no later than April 1, 2031.

Phase 4: Collection of Post-2030 Census Congressional and State Legislative District Plans

Beginning in 2031, the Census Bureau plans to solicit from each state the newly drawn legislative and congressional district plans based on the 2030 census results and compile population, housing and other data for those new districts. This effort is expected to occur every two years in advance of the 2040 Census in order to update these district boundaries with new or changed plans. A verification phase is planned to occur with each two-year update cycle.

Phase 5: Review of the 2030 Census Redistricting Data Program and Recommendations for the 2040 Census Redistricting Data Program

As the final phase of the 2030 Census Redistricting Data Program, the Census Bureau will work with the states to conduct a thorough review of the program. The intent of this review, and the final report that results, is to provide guidance to the Secretary and the Director in planning the 2040 Census Redistricting Data Program.

Please address questions concerning any aspect of the 2030 RDP to the person identified in the contact section of this notice.

Robert L. Santos, Director, Census Bureau, approved the publication of this Notice in the Federal Register.

Dated: July 2, 2024.
Shannon Wink,
Program Analyst, Policy Coordination Office, U.S. Census Bureau.

[FR Doc. 2024-14962 Filed 7-8-24; 8:45 am]

BILLING CODE 3510-07-P